CONSUMER PRODUCT SAFETY COMMISSION

[CPSC Docket No. CPSC-2009-0088]

Proposed Collection; Comment Request— Consumer Product Safety Improvement Act; Consumer Product Conformity Assessment Body Registration Form

AGENCY: Consumer Product Safety Commission.

ACTION: Notice.

SUMMARY: As required by the Paperwork Reduction Act of 1995 (44 U.S.C. Chapter 35), the Consumer Product Safety Commission (“CPSC” or “Commission”) requests comments on a proposed collection of information regarding a form that will be used to identify third party conformity assessment bodies that meet the requirements to test for compliance to specified children's product safety rules. Third party conformity assessment bodies found to meet the requirements will be listed on the CPSC Web site. The Commission will consider all comments received in response to this notice before requesting approval of this collection of information from the Office of Management and Budget.

DATES: Written comments must be received by the Office of the Secretary not later than December 28, 2009.

ADDRESSES: You may submit comments, identified by Docket No. CPSC-2009-0088, by any of the following methods:

Electronic Submissions

Submit electronic comments in the following way:

Federal eRulemaking Portal: http://www.regulations.gov. Follow the instructions for submitting comments. To ensure timely processing of comments, the Commission is no longer accepting comments submitted by electronic mail (e-mail) except through http://www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this proposed collection of information. All comments received may be posted without change, including any personal identifiers, contact information, or other personal information provided to http://www.regulations.gov. Do not submit confidential business information, trade secret information, or other sensitive or protected information electronically. Such information should be submitted in writing.

Docket: For access to the docket to read background documents or comments received, go to http://www.regulations.gov.

FOR FURTHER INFORMATION CONTACT: Linda Glatz, Division of Policy and Planning, Office of Information Technology and Technology Services, Consumer Product Safety Commission, 4330 East West Highway, Bethesda, MD 20814; (301) 504-7671; e-mail lglatz@cpsc.gov.

SUPPLEMENTARY INFORMATION:

A. Background

The Consumer Product Safety Improvement Act of 2008 (“CPSIA” or “Act”) was signed into law on August 14, 2008 (Pub. L. 110-314). Section 102 of the CPSIA mandates that third party testing be conducted for any children's product that is subject to a children's product safety rule. Such third party testing of children's products must be completed before importing for consumption or warehousing or distributing in commerce. Every manufacturer of such children's products (and the private labeler of such children's product if the product bears a private label) must submit samples for testing to a third party conformity assessment body which is accredited under requirements established by the Commission. The third party conformity assessment body will test such samples for compliance with applicable children's product safety rules. Based on this testing, the manufacturer or private labeler must issue a certificate that certifies that the children's product complies with all applicable children's product safety rules.

Section 14(f)(2)(A) of the Consumer Product Safety Act (as amended by section 102(b) of the CPSIA) defines a third party conformity assessment body as one that is not owned, managed, or controlled by the manufacturer or private labeler of a product to be assessed by such conformity assessment body. A conformity assessment body that is owned, managed, or controlled by a manufacturer or a private labeler may, in certain specified circumstances, be accredited as a third party conformity assessment body. The CPSIA also refers to such entities as “firewalled conformity assessment bodies.” Additionally, the CPSIA specifies that, under certain conditions, a third party conformity assessment body may include a government-owned or government-controlled entity.

The CPSIA provides that accreditation of third party conformity assessment bodies may be conducted either by the Commission or by an independent accreditation organization designated by the Commission. The Commission must maintain an up-to-date list of entities that have been accredited to assess compliance with children's product safety rules on its Web site.

The CPSC uses an online collection form, CPSC Form 223, to gather information from third party conformity assessment bodies voluntarily seeking recognition by CPSC. The information collected relates to location, accreditation, and ownership. This information will be used by the Commission to assess:

• A third party conformity assessment body's status as either an independent third party conformity assessment body, a government-owned or government-controlled conformity assessment body, or a firewalled conformity assessment body;

• Qualifications for recognition by CPSC to test for compliance to specified children's product safety rules; and

• Eligibility for recognition on the CPSC Web site.

The collection of this information on CPSC Form 223 is required in three separate circumstances: (1) Upon initial application by the third party conformity assessment body for recognition by CPSC (“initial registrations”); (2) at least every 2 years as part of a regular audit process (“re-registrations”); and (3) whenever a change to accreditation or ownership information occurs (“information changes”).

B. Estimated Burden

The CPSC staff estimates a total reporting burden of approximately 451 hours. This reporting burden is broken down into the categories of submissions as follows: (1) Initial registrations—300 hours, (2) re-registrations—150 hours, and (3) information changes—.75 hours, for a total of 450.75 hours, which the Commission will round up to 451 hours.

Initial Registrations—The Commission tentatively estimates that 300 third party conformity assessment bodies will register initially, with each response taking 1 hour for a total of 300 reporting hours (300 third party conformity assessment bodies × 1 hour = 300 hours). The 300 entity estimate is based on the fact that by June 5, 2009, 153 third party conformity assessment bodies had already registered with the CPSC. The Commission expects to receive additional registrations, which will be further increased by a notice of requirement for “all other children's product safety rules” pursuant to CPSA section 14(a)(3)(B)(vi).

Re-Registrations—Under a separate proposed rule issued by the Commission on August 13, 2009 (74 FR 40784), third party conformity assessment bodies would be required to re-register using CPSC Form 223 every two years. Because not all third party conformity assessment bodies will first submit CPSC Form 223 at the same time, only some of these entities will re-register using CPSC Form 223 in any given year. Because the Commission does not know how many entities will re-register in any given year, for the purposes of this analysis, the Commission estimates that half of the third party conformity assessment bodies will re-register using CPSC Form 223 in any given year, for a total of 150 Re-Registrations per year (300 total third party conformity assessment bodies × 0.5 = 150 re-registrations per year). The reporting burden for each re-registration is estimated to be one hour, making the total reporting burden for all re-registrations per year 150 hours (150 re-registrations × 1 hour per re-registration = 150 hours).

Information Changes—Finally, under the same separate proposed rule noted above, third party conformity assessment bodies would be required to ensure that the information submitted on CPSC Form 223 remains current. Any changes in information must be submitted on a new CPSC Form 223. Based on current experience, the Commission estimates that only one percent of third party conformity assessment bodies will revise or update their information yearly, so the estimated number of respondents is 3 (300 third party conformity assessment bodies × 0.01 = 3 information changes per year). Because information changes in most cases will likely only involve updating a phone number or contact person, the estimated reporting burden is 15 minutes per update, for a total reporting burden of 45 minutes per year (3 information changes × 0.25 hours = 0.75 hours per year).

Estimated Total Cost Burden on Respondents—Assuming that CPSC Form 223 will be submitted by someone at the level of a general or operations manager at each third party conformity assessment body, at a median compensation (wages and benefits) of $68 per hour, the total cost burden to the respondents is estimated to be $30,668 ($68 × 451 hours).

Estimated Annualized Cost Burden to the Federal Government—The Commission estimates 150 re-registrations per year. Re-registrations will require review by a CPSC staff member with an average rate of pay of $67/hour (the approximate hourly compensation (wages and benefits) of a GS-13 step 5 employee). Re-registration review involves a thorough review of the accreditation certificate and scope documents provided by the third party conformity assessment body to ensure, among other things, that the accreditations are current, are to the ISO Standard ISO/IEC 17025:2005, “General Requirements for the Competence of Testing and Calibration Laboratories,” and include the appropriate test methods. The review is estimated to take an average of 1.75 hours per submission. Thus, the annualized cost to the Federal government is estimated to be approximately $17,588 (150 re-registrations × 1.75 hours × $67 = $17,587.50 per year).

Additional costs to the Federal government associated with information changes submitted on CPSC Form 223 will be negligible. The Commission estimates that 15 minutes will be spent reviewing each update. The annualized cost to the federal government is estimated to be approximately $50 (3 information changes × 0.25 hours × $67 = $50.25 per year).

C. Request for Comments

The Commission invites written comments from all interested persons about the proposed collection of information. The Commission specifically invites information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: October 23, 2009.
Todd A. Stevenson,
Secretary, Consumer Product Safety Commission.

[FR Doc. E9-26070 Filed 10-28-09; 8:45 am]

BILLING CODE 6355-01-P